ENVIRONMENTAL PROTECTION AGENCY

40 CFR Part 82

[EPA-HQ-OA-2005-0131; FRL-8181-2]

Protection of Stratospheric Ozone: Recordkeeping and Reporting Requirements for the Import of Halon-1301 Aircraft Fire Extinguishing Vessels

AGENCY: Environmental Protection Agency (EPA).

ACTION: Withdrawal of direct final rule.

SUMMARY: In response to adverse comment, EPA is withdrawing the direct final rule published in the Federal Register on April 11, 2006 (71 FR 18219). This direct final rule sought to exempt importers of aircraft fire extinguishing vessels containing halon-1301 (“aircraft halon bottles”) from the import petition process in order to facilitate the routine hydrostatic testing of these bottles for environmental and safety purposes. In the direct final rule, the Agency indicated that should we receive adverse comment by May 11, 2006, we would publish a timely withdrawal notice in the Federal Register. We received adverse comment on the direct final rule from one commenter and we will address this comment in a subsequent final action based on the parallel proposal also published on April 11, 2006 (71 FR 18259). As stated in the parallel proposal, we will not institute a second comment period on this action.

DATES: Effective June 7, 2006, EPA withdraws the direct final rule published at 71 FR 18219 on April 11, 2006.

ADDRESSES: EPA has established a docket for this action under Docket ID No. OAR 2005-0131. All documents in the docket are listed in the http://www.regulations.gov index. Although listed in the index, some information is not publicly available, e.g., CBI or other information whose disclosure is restricted by statute. Certain other material, such as copyrighted material, will be publicly available only in hard copy. Publicly available docket materials are available either electronically in http:// www.regulations.gov or in hard copy at the Air Docket, EPA/DC, EPA West, Room B102, 1301 Constitution Ave., NW., Washington, DC. This docket facility is open from 8:30 a.m. to 4:30 p.m., Monday through Friday, excluding legal holidays. The telephone number for the Public Reading Room is (202) 566-1744, and the telephone number for the Air Docket is (202) 566-1742.

FOR FURTHER INFORMATION CONTACT: For further information about this action, contact Hodayah Finman by telephone at (202) 343-9246, or by e-mail at finman.hodayah@epa.gov, or by mail at Hodayah Finman, U.S. Environmental Protection Agency, Stratospheric Protection Division (6205J), 1200 Pennsylvania Avenue, NW., Washington, DC 20460. Overnight or courier deliveries should be sent to 1310 L St., NW., Room 827M, Washington, DC 20005; att: Hodayah Finman. You may also visit the Ozone Depletion web site of EPA's Stratospheric Protection Division at http://www.epa.gov/ozone/index.html for further information about EPA's Stratospheric Ozone Protection regulations, the science of ozone layer depletion, and other topics.

List of Subjects in 40 CFR Part 82

Environmental protection, Chemicals, Halon, Ozone, Reporting and recordkeeping requirements, Treaties.

Dated: June 1, 2006
William L. Wehrum,
Acting Assistant Administrator for the Office of Air and Radiation.

[FR Doc. E6-8831 Filed 6-6-06; 8:45 am]

BILLING CODE 6560-50-P